DEPARTMENT OF THE INTERIOR

National Park Service

[NPS-WASO-NRNHL-0512-10399; 2200-3200-665]

National Register of Historic Places; Notification of Pending Nominations and Related Actions

Nominations for the following properties being considered for listing or related actions in the National Register were received by the National Park Service before May 19, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by June 28, 2012. Before including your address, phone number, email address, or other personal identifying information in your comment, you should be aware that your entire comment—including your personal identifying information—may be made publicly available at any time. While you can ask us in your comment to withhold your personal identifying information from public review, we cannot guarantee that we will be able to do so.

Dated: May 23, 2012.
J. Paul Loether,
Chief, National Register of Historic Places/National Historic Landmarks Program.

CALIFORNIA

Placer County

California Granite Company, 5255 Pacific St., Rocklin, 12000375

Sacramento County

Shiloh Baptist Church, 3552 7th Ave., Sacramento, 12000376

COLORADO

Huerfano County

Montoya Ranch, 19176 CO 69, Farisita, 12000377

DELAWARE

New Castle County

Riverview Cemetery Company of Wilmington, Delaware, 3300 & 3117 N. Market St., Wilmington, 12000378

Sussex County

Tunnell—West House, 39 Central Ave., Ocean View, 12000379

DISTRICT OF COLUMBIA

District of Columbia

Park Road Courts, (Apartment Buildings in Washington, DC, MPS) 1346 Park Rd., NW., Washington, 12000380

GEORGIA

Baldwin County

Zattau, Dr. Charles and Louise, House, 290 Lakeside Dr., Milledgeville, 12000381

Montgomery County

McArthur, Willie T., Farm, 165 McArthur Rd., Ailey, 12000382

KANSAS

Butler County

Gish, Amos H., Building, 317 S. Main, Eldorado, 12000383

Dickinson County

Gordon, David R., House, 400 N. Cedar St., Abilene, 12000384

Miami County

Congregational Church, 315 6th St., Osawatomie, 12000385

Soldiers' Monument, NE corner of Main & 9th Sts., Osawatomie, 12000386

Osage County

Arvonia School, (Public Schools of Kansas MPS) S. 9th St., Lebo, 12000387

Calvinistic Methodist Church, 8090 W. 9th St., Lebo, 12000388

Sedgwick County

Battin Apartments Historic District, (Residential Resources of Wichita, Sedgwick County, Kansas 1870-1957 MPS) 1700 S. Elpyco Ave., Wichita, 12000389

Cudahy Packing Plant, 2300 N. Broadway St., Wichita, 12000390

OHIO

Cuyahoga County

Adams Bag Company Paper Mill and Sack Factory, 218 Cleveland St., Chagrin Falls, 12000391

Franklin County

Kilgour, Frederick G., House, 1415 Kirkley Rd., Upper Arlington, 12000392

Hamilton County

Sedamsville Village Historic District, Steiner, Delhi, & Fairbanks Aves., Sedam, & Edwin Sts., Cincinnati, 12000393

Lucas County

Riverview, 200 N. St. Clair St., 215 & 239 Summit St., Toledo, 12000394

Miami County

Newberry Township School, 4045 OH 721, Bradford, 12000395

PUERTO RICO

Guaynabo Municipality

Oficina de Telegrafo y Telefono, 1729 Jose E. Carazo, Guaynabo, 12000396

[FR Doc. 2012-14326 Filed 6-12-12; 8:45 am]

BILLING CODE 4312-51-P